FEDERAL RESERVE SYSTEM

Agency Information Collection Activities: Announcement of Board Approval Under Delegated Authority and Submission to OMB

AGENCY: Board of Governors of the Federal Reserve System

SUMMARY: Background. Notice is hereby given of the final approval of proposed information collections by the Board of Governors of the Federal Reserve System (Board) under OMB delegated authority, as per 5 CFR 1320.16 (OMB Regulations on Controlling Paperwork Burdens on the Public). Board-approved collections of information are incorporated into the official OMB inventory of currently approved collections of information. Copies of the Paperwork Reduction Act Submission, supporting statements and approved collection of information instruments are placed into OMB's public docket files. The Federal Reserve may not conduct or sponsor, and the respondent is not required to respond to, an information collection that has been extended, revised, or implemented on or after October 1, 1995, unless it displays a currently valid OMB control number.

FOR FURTHER INFORMATION CONTACT: Federal Reserve Board Clearance Officer --Michelle Shore--Division of Research and Statistics, Board of Governors of the Federal Reserve System, Washington, DC 20551 (202-452-3829).

OMB Desk Officer--Alexander T. Hunt--Office of Information and Regulatory Affairs, Office of Management and Budget, New Executive Office Building, Room 10235, Washington, DC 20503.

Final approval under OMB delegated authority of the extension for three years, without revision, of the following reports:

1. Report titles: Registration Statement for Persons Who Extend Credit Secured by Margin Stock (Other Than Banks, Brokers, or Dealers); Deregistration Statement for Persons Registered Pursuant to Regulation U; Statement of Purpose for an Extension of Credit Secured by Margin Stock by a Person Subject to Registration Under Regulation U; Annual Report; Statement of Purpose for an Extension of Credit by a Creditor; and Statement of Purpose for an Extension of Credit Secured by Margin Stock

Agency form numbers: FR G-1, FR G-2, FR G-3, FR G-4, FR T-4, and FR U-1

OMB control numbers: 7100-0011: FR G-1, FR G-2, and FR G-4; 7100-0018: FR G-3; 7100-0019: FR T-4; and 7100-0115: FR U-1

Frequency: FR G-1, FR G-2, FR G-3, FR T-4, and FR U-1: on occasion FR G-4: annual

Reporters: Individuals and business

Annual reporting hours: 1,366 reporting hours; 107,757 recordkeeping hours

Estimated average hours per response: FR G-1: 2.5 hours; FR G-2: 15 minutes;FR G-3: 10 minutes; FR G-4: 2.0 hours; FR T-4: 10 minutes; and FR U-1: 10 minutes

Number of respondents: FR G-1: 61; FR G-2: 36; FR G-3: 602; FR G-4: 602; FR T-4: 5,100; and FR U-1: 6,931

General description of report: These information collections are mandatory (15 U.S.C. §§ 78g). The information in the FR G-1 and FR G-4 is given confidential treatment under the Freedom of Information Act (5 U.S.C. §§ 552(b)(4) and (6)). The FR G-2 does not contain confidential information. The FR G-3, FR T-4, and FR U-1 are not submitted to the Federal Reserve and, as such, no issue of confidentiality arises.

Abstract: The Securities Exchange Act of 1934 authorizes the Federal Reserve to regulate securities credit extended by brokers and dealers, banks, and other lenders. The purpose statements, FR T-4, FR U-1, and FR G-3, are recordkeeping requirements for brokers and dealers, banks, and other lenders, respectively, to document the purpose of their loans secured by margin stock. Margin stock is defined as (1) stocks that are registered on a national securities exchange or any over-the-counter security designated for trading in the National Market System, (2) debt securities (bonds) that are convertible into margin stock, and (3) shares of most mutual funds. Lenders other than brokers and dealers and banks must register and deregister with the Federal Reserve using the FR G-1 and FR G-2, respectively, and they must file an annual report (FR G-4) while registered. The Federal Reserve uses the data to identify lenders subject to Regulation U, to verify their compliance with the regulation, and to monitor margin credit.

Current Actions: On December 21, 2007, the Federal Reserve published a notice in the Federal Register (72 FR 72725) requesting public comment for sixty days on the extension, without revision, of the six reports that collect information on certain extensions of credit secured by margin stock, including the amount and purpose of such credit. The comment period expired on February 19, 2008. The Federal Reserve did not receive any comment letters.

2. Report title: Annual Daylight Overdraft Capital Report for U.S. Branches and Agencies of Foreign Banks

Agency form number: FR 2225

OMB Control number: 7100-0216

Frequency: Annual

Reporters: Foreign banks with U.S. branches or agencies

Annual reporting hours: 54 hours

Estimated average hours per response: 1.0 hour

Number of respondents: 54

General description of report: This information collection is required to respond in order to obtain or retain a benefit, i.e., in order for the U.S. branch or agency of an FBO to establish and maintain a non-zero net debit cap. The information submitted by respondents is not confidential; however, respondents may request confidential treatment for portions of the report. Data may be considered confidential and exempt from disclosure under section (b)(4) of the Freedom of Information Act if it constitutes commercial or financial information and it would customarily not be released to the public by the person from whom it was obtained (5 U.S.C. § 552(b)(4)).

Abstract: This report was implemented in March 1986 as part of the procedures used to administer the Federal Reserve's Payments System Risk (PSR) policy. A key component of the PSR policy is a limit, or a net debit cap, on an institution's negative intraday balance in its Reserve Bank account. The Federal Reserve calculates an institution's net debit cap by applying the multiple associated with the net debit cap category to the institution's capital. For foreign banking organizations (FBOs), a percentage of the FBO's capital measure, known as the U.S. capital equivalency, is used to calculate the FBO's net debit cap. Currently, an FBO with U.S. branches or agencies may voluntarily file the FR 2225 to provide the Federal Reserve with its capital measure. Because an FBO that files the FR 2225 may be able to use its total capital in determining its U.S capital equivalency measure, which is then used to calculate its net debit cap, an FBO seeking to maximize its daylight overdraft capacity may find it advantageous to file the FR 2225. An FBO that does not file FR 2225 may use an alternative capital measure based on its nonrelated liabilities.

Current Actions: On December 21, 2007, the Federal Reserve published a notice in the Federal Register (72 FR 72725) requesting public comment for sixty days on the extension, without revision, of the FR 2225. The comment period expired on February 19, 2008. The Federal Reserve did not receive any comment letters.

3. Report title: Ongoing Intermittent Survey of Households

Agency form number: FR 3016

OMB control number: 7100-0150

Frequency: On occasion

Reporters: Households and individuals

Annual reporting hours: 683 hours

Estimated average hours per response: Division of Research & Statistics, 1.58 minutes; Division of Consumer & Community Affairs, 3 minutes; Other divisions, 5 minutes; and Non-SRC surveys, 90 minutes

Number of respondents: 600

General description of report: This information collection is voluntary (12 U.S.C. 225a, 263, and 15 U.S.C. 1691b). No issue of confidentiality normally arises because names and any other characteristics that would permit personal identification of respondents are not reported to the Federal Reserve Board. However, exemption 6 of the Freedom of Information Act (5 U.S.C. 552(b)(6)) would exempt this information from disclosure.

Abstract: The Federal Reserve uses this voluntary survey to obtain household-based information specifically tailored to the Federal Reserve's policy, regulatory, and operational responsibilities. Currently, the University of Michigan's Survey Research Center (SRC) includes survey questions on behalf of the Federal Reserve in an addendum to their regular monthly Survey of Consumer Attitudes and Expectations. The SRC conducts the survey by telephone with a sample of 500 households and asks questions of special interest to Federal Reserve Board staff intermittently, as needed. The frequency and content of the questions depend on changing economic, regulatory, and legislative developments.

Current Actions: On December 21, 2007, the Federal Reserve published a notice in the Federal Register (72 FR 72725) requesting public comment for sixty days on the extension, without revision, of the FR 2226. The comment period expired on February 19, 2008. The Federal Reserve did not receive any comment letters.

Final approval under OMB delegated authority the extension for three years, with revision, of the following report:

Report title: Report of Net Debit Cap

Agency form number: FR 2226

OMB control number: 7100-0217

Frequency: Annual

Reporters: Depository institutions, Edge and agreement corporations, U.S. branches and agencies of foreign banks

Annual reporting hours: 1,623 hours

Estimated average hours per response: 1.0 hour

Number of respondents: 1,623

General description of report: This information collection is mandatory (12 U.S.C. 248(i), 248-1, and 464). The information submitted by respondents for the payments system risk reduction program may be accorded confidential treatment under the Freedom of Information Act (FOIA) (5 U.S.C. § 552 (b)(4)). In addition, information reported in connection with the second and third resolutions may be protected under Section (b)(8) of FOIA, to the extent that such information is based on the institution's CAMELS rating, and thus is related to examination reports prepared by, on behalf of, or for the use of an agency responsible for the regulation or supervision of financial institutions (5 U.S.C. § 552(b)(8)).

Abstract: Federal Reserve Banks collect these data annually to provide information that is essential for their administration of the Federal Reserve's Payments System Risk (PSR) policy. The reporting panel includes all financially healthy depository institutions with access to the discount window. The Report of Net Debit Cap comprises three resolutions, which are filed by a depository institution's board of directors depending on its needs. The first resolution is used to establish a de minimis net debit cap and the second resolution is used to establish a self-assessed net debit cap. The third resolution is used to establish simultaneously a self-assessed net debit cap and maximum daylight overdraft capacity. Copies of the model resolutions are located in Appendix B, of the PSR policy, that can be found at http://www.federalreserve.gov/paymentsystems/psr/relpol.htm.

Current actions: On December 21, 2007, the Federal Reserve published a notice in the Federal Register (72 FR 72725) requesting public comment for sixty days on the extension, with revision, of the FR 2226. The comment period expired on February 19, 2008. The Federal Reserve did not receive any comment letters.

Board of Governors of the Federal Reserve System, February 26, 2008.
Jennifer J. Johnson
Secretary of the Board.

[FR Doc. E8-3910 Filed 2-28-08; 8:45 am]

BILLING CODE 6210-01-S